FEDERAL MARITIME COMMISSION

[Docket No. 19-03]

Muhammad Rana, Complainant v. Michelle Franklin, d.b.a. “The Right Move Inc.”, Respondent; Notice of Filing of Complaint and Assignment

Served: May 13, 2019.

Notice is given that a complaint has been filed with the Federal Maritime Commission (Commission) by Muhammad J. Rana, hereinafter “Complainant”, against Michelle Franklin, d.b.a. “The Right Move Inc.”, hereinafter “Respondent”. Complainant states that he “. . . is a U.S. citizen who was temporarily relocating his residence from Alexandria, Virginia to Islamabad, Pakistan.” Complainant states that Respondent “. . .is an individual ocean shipping/freight forwarder doing business as `The Right Move, Inc.'” with FMC Registration #023229N.

Complainant states that “On February 6, 2019, [he] and the [R]espondent entered into an agreement through electronic mail where the [C]omplainant retained the services of the [R]espondent.” Complainant alleges that the Respondent agreed to “. . . arrange for the pick-up of [C]omplainant's household goods of personal effect in a 20-foot container and ship/deliver it to the Port Qasim, Karachi, Pakistan for pick up by the [C]omplainant.” Complainant alleges that he could not receive his container “. . . because ocean freight/shipping charges had not been paid by the [R]espondent.”Complainant alleges that Respondent's failure to pay ocean freight charges and uncooperativeness in providing proof such charges were paid “. . . constitute an unreasonable practice related to the delivery of property in violation of 46 U.S.C. 41102(c) [formerly § 10(d)(1) of the Shipping Act].”

Complainant requests that the Commission: award $4,509.40 in compensatory damages, over $77,000 in other damages; revoke the Respondent's FMC license; and “issue further order(s) as the Commission determines to be proper”; and other relief. The full text of the complaint can be found in the Commission's Electronic Reading Room at https://www2.fmc.gov/readingroom/proceeding/19-03/.

This proceeding has been assigned to Office of Administrative Law Judges. The initial decision of the presiding office in this proceeding shall be issued by May 13, 2020, and the final decision of the Commission shall be issued by November 30, 2020.

Rachel Dickon,
Secretary.

[FR Doc. 2019-10151 Filed 5-15-19; 8:45 am]

BILLING CODE 6731-AA-P